DEPARTMENT OF JUSTICE

Notice of Lodging of Proposed Consent Decree Under the Clean Air Act

On November 6, 2014, the Department of Justice lodged a proposed consent decree with the United States District Court for the Middle District of Louisiana in the lawsuit entitled United States and the Louisiana Department of Environmental Quality v. PCS Nitrogen Fertilizer, L.P., AA Sulfuric, Inc., and White Springs Agricultural Chemicals, Inc., Civil Action No. 3:14-cv-00707.

The United States and Louisiana Department of Environmental Quality filed this lawsuit under the Clean Air Act and Louisiana Environmental Quality Act. The complaint seeks injunctive relief and civil penalties for violations of the Clean Air Act's Prevention of Significant Deterioration requirements and related state requirements at sulfuric acid manufacturing plants owned and operated by the defendants, PCS Nitrogen Fertilizer, L.P., AA Sulfuric, Inc., and White Springs Agricultural Chemicals, Inc., in Geismar, Louisiana and White Springs, Florida. The consent decree requires the defendants to perform injunctive relief, pay a $ 1,300,000 civil penalty, and perform a Supplemental Environmental Project at a nitric acid manufacturing facility owned and operated by PCS Nitrogen Fertilizer, Inc. in Geismar, Louisiana. The consent decree also requires PCS Phosphate Company, Inc. to perform injunctive relief at the sulfuric acid manufacturing facility that it owns and operates in Aurora, North Carolina.

The publication of this notice opens a period for public comment on the proposed consent decree. Comments should be addressed to the Assistant Attorney General, Environment and Natural Resources Division, and should refer to United States and the Louisiana Department of Environmental Quality v. PCS Nitrogen Fertilizer, L.P. et al., D.J. Ref. No. 90-7-1-08209/1. All comments must be submitted no later than thirty (30) days after the publication date of this notice. Comments may be submitted either by email or by mail:

To submit comments: | Send them to:
By e-mail | pubcomment-ees.enrd@usdoj.gov.
By mail | Assistant Attorney General U.S. DOJ—ENRD P.O. Box 7611 Washington, D.C. 20044-7611.

During the public comment period, the proposed consent decree may be examined and downloaded at this Justice Department Web site: http://www.usdoj.gov/enrd/Consent_Decrees.html. We will provide a paper copy of the proposed consent decree upon written request and payment of reproduction costs. Please mail your request and payment to: Consent Decree Library, U.S. DOJ—ENRD, P.O. Box 7611, Washington, DC 20044-7611.

Please enclose a check or money order for $43.50 (25 cents per page reproduction cost) payable to the United States Treasury. For a paper copy without the exhibits and signature pages, the cost is $ 17.00.

Maureen M. Katz,
Assistant Section Chief, Environmental Enforcement Section, Environment and Natural Resources Division.

[FR Doc. 2014-26847 Filed 11-12-14; 8:45 am]

BILLING CODE 4410-15-P